DEPARTMENT OF ENERGY

Federal Energy Regulatory Commission

[Docket No. CP12-30-000]

Transcontinental Gas Pipe Line Company, LLC; Notice of Availability of the Environmental Assessment for the Proposed Northeast Supply Link Project

The staff of the Federal Energy Regulatory Commission (FERC or Commission) has prepared an environmental assessment (EA) for the Northeast Supply Link Project (Project) proposed by Transcontinental Gas Pipe Line Company (Transco) in the above-referenced docket. Transco requests authorization to construct and operate certain pipeline and compressor facilities in New York, New Jersey, and Pennsylvania in order to expand the natural gas delivery capacity to the northeast region of the United States by up to 250,000 dekatherms per year.

The EA assesses the potential environmental effects of the construction and operation of the Project in accordance with the requirements of the National Environmental Policy Act (NEPA). The FERC staff concludes that approval of the proposed project, with appropriate mitigating measures, would not constitute a major federal action significantly affecting the quality of the human environment.

The U.S. Fish and Wildlife Service, U.S. Army Corps of Engineers, and U.S. Department of Transportation Pipeline and Hazardous Materials Safety Administration participated as cooperating agencies in the preparation of the EA. Cooperating agencies have jurisdiction by law or special expertise with respect to resources potentially affected by the proposal and participate in the NEPA analysis.

The proposed Project includes the following facilities:

• Installing approximately 12.0 miles of new 42-inch-diameter pipeline loop ¹ in three separate segments in Hunterdon County, New Jersey and Lycoming and Monroe Counties, Pennsylvania;

¹ A loop is a segment of pipe that is usually installed adjacent to an existing pipeline and connected to it at both ends. The loop allows more gas to be moved through the system.

• Replacing approximately 0.5 mile of 36-inch-diameter pipeline in Essex County, New Jersey;

• Uprating ² approximately 25.6 miles of existing 36-inch-diameter pipeline in Essex, Passaic, Bergen, and Hudson Counties, New Jersey;

² An uprate is a process by which an existing pipeline is approved to operate at a higher pressure, thus increasing the capacity of the pipeline. To obtain an uprate, pipeline operators must determine and document that the pipeline can safely operate at the increased pressure.

• Uprating approximately 1.4 miles of existing 26-inch-diameter pipeline in Richmond and Kings Counties, New York;

• Constructing new Compressor Station 303 and an associated electrical substation in Essex County, New Jersey;

• Modifying existing Compressor Stations 505 and 515 in Somerset County, New Jersey and Luzerne County, Pennsylvania, respectively;

• Modifying other existing aboveground facilities in New York (three facilities); New Jersey (six facilities); and Pennsylvania (one facility);

• Installing associated appurtenant aboveground facilities including mainline valves and pig ³ launchers and receivers; and

³ A pig is an internal tool that can be used to clean and dry a pipeline and/or to inspect it for damage or corrosion.

• Using contractor/pipe yards and access roads.

The EA has been placed in the public files of the FERC and is available for public viewing on the FERC's Web site at www.ferc.gov using the eLibrary link. A limited number of copies of the EA are available for distribution and public inspection at: Federal Energy Regulatory Commission, Public Reference Room, 888 First Street NE., Room 2A, Washington, DC 20426, (202) 502-8371.

Copies of the EA have been mailed to federal, state, and local government representatives and agencies; elected officials; environmental and public interest groups; Native American tribes; potentially affected landowners and other interested individuals and groups; libraries in the project area; and parties to this proceeding.

Any person wishing to comment on the EA may do so. Your comments should focus on the potential environmental effects, reasonable alternatives, and measures to avoid or lessen environmental impacts. The more specific your comments, the more useful they will be. To ensure that your comments are properly recorded and considered prior to a Commission decision on the proposal, it is important that the FERC receives your comments in Washington, DC on or before August 31, 2012.

For your convenience, there are three methods you can use to submit your comments to the Commission. In all instances please reference the project docket number (CP12-30-000) with your submission. The Commission encourages electronic filing of comments and has dedicated eFiling expert staff available to assist you at (202) 502-8258 or efiling@ferc.gov.

(1) You may file your comments electronically by using the eComment feature, which is located on the Commission's Web site at www.ferc.gov under the link to Documents and Filings. An eComment is an easy method for interested persons to submit brief, text-only comments on a project;

(2) You may file your comments electronically by using the eFiling feature, which is located on the Commission's Web site at www.ferc.gov under the link to Documents and Filings. With eFiling, you can provide comments in a variety of formats by attaching them as a file with your submission. New eFiling users must first create an account by clicking on “eRegister.” You will be asked to select the type of filing you are making. A comment on a particular project is considered a “Comment on a Filing”; or

(3) You may file a paper copy of your comments at the following address: Kimberly D. Bose, Secretary, Federal Energy Regulatory Commission, 888 First Street NE., Room 1A, Washington, DC 20426.

Any person seeking to become a party to the proceeding must file a motion to intervene pursuant to Rule 214 of the Commission's Rules of Practice and Procedures (18 CFR 385.214).⁴ Only intervenors have the right to seek rehearing of the Commission's decision. The Commission grants affected landowners and others with environmental concerns intervenor status upon showing good cause by stating that they have a clear and direct interest in this proceeding which no other party can adequately represent. Simply filing environmental comments will not give you intervenor status, but you do not need intervenor status to have your comments considered.

⁴ See the previous discussion on the methods for filing comments.

Additional information about the project is available from the Commission's Office of External Affairs, at (866) 208-FERC, or on the FERC Web site (www.ferc.gov) using the eLibrary link. Click on the eLibrary link, click on “General Search,” and enter the docket number excluding the last three digits in the Docket Number field (i.e., CP12-30). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Dated: August 1, 2012.
Kimberly D. Bose,
Secretary.

[FR Doc. 2012-19272 Filed 8-6-12; 8:45 am]

BILLING CODE 6717-01-P